FEDERAL ELECTION COMMISSION

Sunshine Act Notices

AGENCY: Federal Election Commission.

Date and Time: Tuesday, June 15, 2010, at 10 a.m.

Place: 999 E Street, NW., Washington, DC.

Status: This meeting will be closed to the public.

Items To Be Discussed

Compliance matters pursuant to 2 U.S.C. 437g.

Audits conducted pursuant to 2 U.S.C. 437g, 438(b), and title 26, U.S.C. Matters concerning participation in civil actions or proceedings or arbitration. Internal personnel rules and procedures or matters affecting a particular employee.

Date and Time: Wednesday, June 16, 2010, at 11 a.m.

Place: 999 E Street, NW., Washington, DC (ninth floor).

Status: This hearing will be open to the public.

Audit Hearing: Georgia Federal Elections Committee.

Individuals who plan to attend and require special assistance, such as sign language interpretation or other reasonable accommodations, should contact Darlene Harris, Deputy Commission Secretary, at (202) 694-1040, at least 72 hours prior to the hearing date.

Person to Contact for Information: Judith Ingram, Press Officer, telephone: (202) 694-1220.

Darlene Harris,
Deputy Secretary of the Commission.

[FR Doc. 2010-14133 Filed 6-11-10; 8:45 am]

BILLING CODE 6715-01-M